DEPARTMENT OF THE INTERIOR

Fish and Wildlife Service

[FWS-R4-R-2008-N0315; 40136-1265-0000-S3]

White River National Wildlife Refuge, Desha, Monroe, Arkansas, and Phillips Counties, AR

AGENCY: Fish and Wildlife Service, Interior.

ACTION: Notice of intent to prepare a comprehensive conservation plan and environmental assessment; request for comments.

SUMMARY: We, the Fish and Wildlife Service (Service), intend to prepare a comprehensive conservation plan (CCP) and associated National Environmental Policy Act documents for White River National Wildlife Refuge (NWR). We provide this notice in compliance with our CCP policy to advise other agencies, tribes, and the public of our intentions, and to obtain suggestions and information on the scope of issues to consider in the planning process.

DATES: To ensure consideration, we must receive your written comments by March 9, 2009. An open house meeting will be held during the scoping phase of the CCP development process. The date, time, and place for the meeting will be announced in the local media.

ADDRESSES: Comments, questions, and requests for information should be sent to: Mike Dawson, Refuge Planner, Fish and Wildlife Service, 6578 Dogwood View Parkway, Suite B, Jackson, MS 39213.

FOR FURTHER INFORMATION CONTACT: Mike Dawson; Telephone: 601/965-4903, ext. 20; Fax: 601/965-4010; e-mail: mike_dawson@fws.gov.

SUPPLEMENTARY INFORMATION:

Introduction

With this notice, we initiate our process for developing a CCP for White River NWR in Desha, Monroe, Arkansas, and Phillips Counties, Arkansas.

This notice complies with our CCP policy to (1) advise other federal and state agencies, tribes, and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose in developing a CCP is to provide refuge managers with a 15-year strategy for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System is established for specific purposes. We use the purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for state, tribal, and local governments; agencies; organizations; and the public. At this time we encourage input in the form of issues, concerns, ideas, and suggestions for the future management of White River NWR. Special mailings, newspaper articles, and other media outlets will be used to announce opportunities for input throughout the planning process.

We will conduct the environmental assessment in accordance with the requirements of the National Environmental Policy Act of 1969, as amended (NEPA) (42 U.S.C. 4321 et seq.); NEPA regulations (40 CFR parts 1500-1508); other appropriate Federal laws and regulations; and our policies and procedures for compliance with those laws and regulations.

White River NWR was established in 1935 for the protection of migratory birds. The refuge lies in the floodplain of the White River near where it meets the Mississippi River. The refuge has one of the largest remaining bottomland hardwood forests in the Mississippi River Valley. The refuge's fertile forests and 300 lakes are interlaced with streams, sloughs, and bayous. The result is a haven for a myriad of native wildlife and migratory birds.

Approximately two-thirds of the bird species found in Arkansas can be seen at White River NWR. Many of these are neotropical migratory songbirds that use the refuge as a stopping point on their journey to and from Central and South America.

The refuge provides important opportunities for compatible wildlife-dependent recreational activities involving hunting, fishing, wildlife observation, wildlife photography, and environmental education and interpretation. In 2003, White River NWR completed construction of a 10,000-square-foot office and visitor center off Highway 1 in St. Charles, Arkansas. This facility houses an auditorium, environmental education classroom, an exhibit hall, and the Friends of White River Bookstore.

Public Availability of Comments

Before including your address, phone number, e-mail, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: December 5, 2008.
Cynthia K. Dohner,
Acting Regional Director.

[FR Doc. E9-1030 Filed 1-16-09; 8:45 am]

BILLING CODE 4310-55-P